Agency for International Development

Notice of October 26, 2016 President's Global Development Council Meeting

AGENCY: United States Agency for International Development.

ACTION: Notice of meeting.

SUMMARY: Pursuant to the Federal Advisory Committee Act, notice is hereby given of a meeting of the President's Global Development Council (GDC).

Date: Wednesday, October 26, 2016.

Time: 11:30-1:30 p.m.

Location: National Press Club Ballroom, 13th Floor, 529 14th Street NW., Washington, DC 20045.

Agenda

The purpose of the meeting is to solicit public input on key global development issues. The meeting will begin with opening remarks, followed by a panel presentation from GDC members on recommendations for U.S. development policies and practices, and the opportunity for public comment. The full meeting agenda will be forthcoming on https://www.usaid.gov/who-we-are/global-development-council.

Stakeholders

The meeting is free and open to the public. Persons wishing to attend should register online at https://www.usaid.gov/who-we-are/global-development-council.

FOR FURTHER INFORMATION CONTACT: Jayne Thomisee, gdc@usaid.gov.

Dated: October 11, 2016.
Jayne Thomisee,
Executive Director & Policy Advisor, U.S. Agency for International Development.

[FR Doc. 2016-25366 Filed 10-19-16; 8:45 am]

BILLING CODE P